DEPARTMENT OF COMMERCE

Patent and Trademark Office

Fastener Quality Act Insignia Recordal Process

ACTION: Proposed collection; comment request.

SUMMARY: The United States Patent and Trademark Office (USPTO), as part of its continuing effort to reduce paperwork and respondent burden, invites the general public and other Federal agencies to comment on the continuing information collection, as required by the Paperwork Reduction Act of 1995, Pub. L. 104-13 (44 U.S.C. 3506(c)(2)(A)).

DATES: Written comments must be submitted on or before February 3, 2003.

ADDRESSES: Direct all written comments to Susan K. Brown, Records Officer, Office of Data Architecture and Services, Data Administration Division, USPTO, Suite 310, 2231 Crystal Drive, Washington, DC 20231; by telephone at (703) 308-7400; or by electronic mail at susan.brown@uspto.gov.

FOR FURTHER INFORMATION CONTACT: Requests for additional information should be directed to Lynne Beresford, Deputy Commissioner for Trademark Examination Policy, Office of the Commissioner for Trademarks, USPTO, Washington, DC 20231; by telephone at (703) 306-3109; or by electronic mail at lynne.beresford@uspto.gov.

SUPPLEMENTARY INFORMATION

I. Abstract

Under Section 5 of the Fastener Quality Act (FQA), 15 U.S.C. 5401 et seq. (as amended by Pub. L. 104-113, Pub. L. 105-234, and Pub. L. 106-34), certain industrial fasteners are required to bear an insignia identifying the manufacturer. The manufacturer must record this insignia with the USPTO. The procedures for the recordal of insignias under the FQA are set forth in 15 CFR 280.300 et seq.

This information collection was previously approved by the Office of Management and Budget (OMB) in February 2000 in conjunction with a proposed rule implementing the changes contained in the FQA Amendments that were enacted on June 8, 1999 (Pub. L. 106-34). The final rule notice entitled “Procedures for Implementation of the Fastener Quality Act” was published in the Federal Register on June 28, 2000 (Vol. 65, No. 125). Under the current rules of practice, only manufacturers of certain fasteners are required to record insignias. Previously, private label distributors were also required to record fastener insignias. The purpose of this collection is to ensure that a fastener can be traced to its manufacturer.

It is mandatory for manufacturers of fasteners covered by the FQA to submit an application to the USPTO for recordal of an insignia on the Fastener Insignia Register. The insignia may be either a unique alphanumeric designation that the USPTO will issue upon request, or a trademark that is either (1) registered at the USPTO or (2) the subject of an application to obtain a registration. Upon successful application for recordal of a fastener insignia, the USPTO will issue a Certificate of Recordal, which must be renewed every five years. If ownership of a recorded alphanumeric designation is assigned to another entity, the designation becomes “inactive” and the new owner must submit an application in order to reactivate the designation within six months of the date of assignment. If the recordal is based on a trademark application or registration that is assigned to a new owner, the recordal becomes “inactive” and cannot be reactivated. Instead, the new owner of the trademark application or registration must apply for a new recordal.

This information collection includes one form, the Application for Recordal of Insignia under the Fastener Quality Act (PTO-1611), which provides manufacturers with a convenient way to submit a request for the recordal of a fastener insignia or to renew or reactivate an existing Certificate of Recordal. Use of form PTO-1611 is not mandatory, and applicants may instead prepare requests for recordal using their own format. In November 2001, OMB approved a change worksheet submitted by the USPTO that reduced the burden for this information collection due to the USPTO receiving fewer Applications for Recordal of Insignia under the Fastener Quality Act than previously estimated.

The USPTO uses the information in this collection to maintain the Fastener Insignia Register, which is open to public inspection. The Fastener Insignia Register may be downloaded from the USPTO web site, and printed copies may be purchased from the USPTO.

II. Method of Collection

By mail, facsimile, or hand delivery to the USPTO.

III. Data

OMB Number: 0651-0028.

Form Number(s): PTO-1611.

Type of Review: Extension of a currently approved collection.

Affected Public: Businesses or other for-profits.

Estimated Number of Respondents: 150 responses per year.

Estimated Time Per Response: The USPTO estimates that it will take the public approximately 10 minutes (0.17 hours) to gather the necessary information, prepare the form, and submit the request for recordal or renewal of a fastener insignia to the USPTO.

Estimated Total Annual Respondent Burden Hours: 26 hours per year.

Estimated Total Annual Respondent Cost Burden: $780 per year. The USPTO expects that the information in this collection will be prepared by paraprofessionals at an estimated rate of $30 per hour. Therefore, the USPTO estimates that the respondent cost burden for this collection will be $780 per year.

Item | Estimated time for response | Estimated annual responses | Estimated annual burden hours
Application for Recordal or Renewal of Insignia Under the Fastener Quality Act | 10 minutes | 150 | 26
Total |  | 150 | 26

Estimated Total Annual Non-hour Respondent Cost Burden: $3,474. There are no capital start-up costs or maintenance costs associated with this information collection. However, this collection does have annual (non-hour) costs in the form of filing fees. Customers may also incur postage costs when submitting the Application for Recordal of Insignia Under the Fastener Quality Act to the USPTO by mail.

Under 37 CFR 2.7, the filing fee for a recordal of fastener insignia, a renewal of an insignia recordal, or the surcharge for a late renewal is $20. If a manufacturer submits a renewal after the expiration date but within six months of that date, then the manufacturer must pay the $20 renewal fee as well as a $20 late renewal surcharge, for a total fee of $40 for a late renewal. The USPTO estimates that approximately 20 of the 150 responses per year will be late renewals that incur the surcharge. Therefore, the total filing costs for this collection will be $3,400 per year for applications for recordal of fastener insignia, renewals, and late renewals.

The public may submit the information for this collection to the USPTO by mail through the United States Postal Service. The USPTO estimates that the average first-class postage cost for a mailed submission will be 49 cents, for a total postage cost of $74 per year.

The total non-hour respondent cost burden for this collection in the form of filing fees and postage costs is $3,474 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: November 27, 2002.
Susan K. Brown,
Records Officer, USPTO, Office of Data Architecture and Services, Data Administration Division.

[FR Doc. 02-30746 Filed 12-3-02; 8:45 am]

BILLING CODE 3510-16-P